DEPARTMENT OF HEALTH AND HUMAN SERVICES

Centers for Disease Control and Prevention

Office of the Director, Office of Strategy and Innovation, Office of Minority Health and Health Disparities

In accordance with Presidential Executive Order No. 13175, November 6, 2000, and the Presidential Memorandum of September 23, 2004, Consultation and Coordination with Indian Tribal Governments, the CDC announces the following meeting:

Name: Tribal Consultation Advisory Committee (TCAC) Meeting, An Overview and Orientation to CDC, and the Biannual Tribal Consultation Session.

Times and Dates:

8 a.m.-5:30 p.m., February 26, 2008; TCAC Meeting.

8 a.m.-5:30 p.m., February 27, 2008; An Overview and Orientation to CDC.

8 a.m.-5:30 p.m., February 28, 2008; Biannual Tribal Consultation Session.

Place: Centers for Disease Control (CDC), 1600 Clifton Road NE, Atlanta, GA 30333, Telephone: 404-498-2343. Roybal Campus—Building 19, Room 206 Auditorium A.

Status: Open to the public, limited only by the space available. The meeting room accommodates approximately 75 people.

Purpose: CDC established the Tribal Consultation Policy in October of 2005 with the primary purpose of providing guidance across the agency to work effectively with American Indian/Alaska Native (AI/AN) communities and organizations to enhance AI/AN access to CDC programs. In October of 2005, an Agency Advisory Committee (CDC/ATSDR Tribal Consultation Advisory Committee—TCAC) was established to provide a complementary venue wherein tribal representatives and CDC staff will exchange information about public health issues in Indian Country, identifying urgent public health issues in Indian country, and discuss collaborative approaches to these issues. Within the CDC Consultation Policy, it is stated that CDC will conduct Government-to-government consultation with elected tribal officials or their designated representatives and also confer with tribal and Alaska Native organizations and AI/AN urban and rural communities before taking actions and/or making decisions that affect them. Consultation is an enhanced form of communication that emphasizes trust, respect, and shared responsibility. It is an open and free exchange of information and opinion among parties that leads to mutual understanding and comprehension. CDC believes that consultation is integral to a deliberative process that results in effective collaboration and informed decision making with the ultimate goal of reaching consensus on issues. Although formal responsibility for the agency's overall Government-to-government consultation activities rests within the Office of the Director, Coordinating Centers and Coordinating Offices, and center leadership shall actively participate in TCAC meetings and HHS-sponsored regional and national tribal consultation sessions as frequently as possible.

Matters To Be Discussed: The TCAC will convene their quarterly committee meeting with discussions and presentations from various CDC senior leadership on activities and areas identified by tribal leaders as priority public health issues. The Tribal Leaders Orientation Agenda has been established in response to tribal leaders' request to learn more about the CDC and its potential resources available. The Biannual Tribal Consultation Session will engage CDC Senior leadership from the Office of the Director and various CDC Offices and National Centers including the Financial Management Office, National Center for Environmental Health and the Agency for Toxic Substances, Coordinating Office for Terrorism and Preparedness and Emergency Response, National Center for Health Marketing, the Office of Chief of Public Health Practice, and the Office of Enterprise Communications. Opportunities will be provided during the Consultation Session for tribal testimony. Tribal Leaders are encouraged to submit written testimony by COB on February 8, 2008 to the contact person below. Depending on the time available it may be necessary to limit the time of each presenter.

Please reference this web link http://www.cdc.gov/omhd/TCAC/AAC.html to review information about the TCAC and CDC's tribal Consultation Policy.

For Further Information Contact: CAPT Pelagie (Mike) Snesrud, Senior Tribal Liaison for Policy and Evaluation, Office of Minority Health and Health Disparities, 1600 Clifton Road NE., MS E-67, Atlanta, Georgia 30333, telephone (404) 498-2343, fax (404) 498-2355, e-mail: pws8@cdc.gov.

The Director, Management Analysis and Services Office, has been delegated the authority to sign Federal Register notices pertaining to announcements of meetings and other committee management activities for both the CDC and Agency for Toxic Substances and Disease Registry.

Dated: February 6, 2008.
Elaine L. Baker,
Director, Management Analysis and Services Office, Centers for Disease Control and Prevention.

[FR Doc. E8-2789 Filed 2-13-08; 8:45 am]

BILLING CODE 4160-18-P